DEPARTMENT OF JUSTICE

Notice of Lodging of Proposed Consent Decree Under the Clean Air Act and Clean Water Act

On December 2, 2015, the Department of Justice lodged a proposed consent decree with the United States District Court for the District of Hawaii in the lawsuit entitled United States v. Aloha Petroleum, Ltd., Civil Action No. CV 15-00498 HG-BMK.

The United States' Complaint asserts claims against Aloha under Section 113(b) of the Clean Air Act (“CAA”), 42 U.S.C. 7413(b) and section 311(b) of the Clean Water Act (“CWA”), 33 U.S.C. 1321(b). Aloha operates a bulk gasoline terminal in Hilo, Hawaii (the “Terminal”). The Terminal receives petroleum products via pipelines connected to the local marine port and stores the products in large tanks prior to transfer into tank trucks at the Terminal's loading rack. The Complaint alleges that Aloha failed to install a vapor collection system, limit emissions, and conduct a performance test, as required by 40 CFR part 60, subpart XX. Under the CWA, the Complaint alleges that Aloha failed to construct a secondary containment structure that is sufficiently impervious to contain oil, or to hold oil until cleanup can occur. 40 CFR 112.7(c), 112.8(c)(2).

Under the Consent Decree, Aloha will pay a civil penalty of $650,000, will “permanently close” the Terminal as defined in 40 CFR 112.2, and certify that it has ceased operating the loading racks there. Aloha will also install improved containment liners at five of its other facilities.

The publication of this notice opens a period for public comment on the consent decree. Comments should be addressed to the Assistant Attorney General, Environment and Natural Resources Division, and should refer to United States v. Aloha Petroleum, Ltd., D.J. Ref. No. 90-5-2-1-10467. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department Web site: http://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $8.75 (25 cents per page reproduction cost) payable to the United States Treasury.

Henry Friedman,
Assistant Section Chief, Environmental Enforcement Section, Environment and Natural Resources Division.

[FR Doc. 2015-31077 Filed 12-9-15; 8:45 am]

BILLING CODE 4410-CW-P